TENNESSEE VALLEY AUTHORITY

Sunshine Act Meeting Notice

Agency Holding the Meeting: Tennessee Valley Authority (Meeting No. 1539).

Time and Date: 9 a.m. (CDT), May 16, 2002.

Place: Huntsville Marriott, 5 Tranquility Base, Huntsville, Alabama.

Status: Open.

Agenda

Approval of minutes of meeting held on March 26, 2002.

New Business

B—Purchase Awards

B1. Supplement to contract with EMC Corporation for disk array storage device hardware, software, and maintenance.

B2. Contracts with Great Southern Wood Preserving, Inc., Landstar, and Kaplan Trucking for purchase of truckload transportation services for TVA operations.

C—Energy

C1. Extended operation of Browns Ferry Nuclear Plant and recovery of Unit 1.

C2. Contracts with Flowserve Corporation and Tencarva Machinery Company, Inc., for pump repair parts and repair services at any TVA fossil plant.

C3. Contract with Trans-Ash, Inc., for offsite fly ash utilization at Johnsonville Fossil Plant.

C4. Term coal contract with The American Coal Sales Company for coal supply to Johnsonville Fossil Plant.

C5. Contract with United Conveyor Corporation to design and furnish mechanical ash-handling systems for any TVA fossil plant

C6. Supplement to Contract No. 2889 with LaRoche Industries, Inc., to engineer and design ammonia storage and supply facilities and to supply ammonia for the nitrogen oxide reduction programs for any TVA fossil plant.

E—Real Property Transactions

E1. Sale of a noncommercial, nonexclusive permanent easement to John Jansheski for construction and maintenance of recreational water-use facilities affecting approximately 0.27 acre of Tellico Reservoir shoreline in Loudon County, Tennessee (Tract No. XTELR-228RE).

E2. Abandonment of certain easement rights and modificatioin of a restrictive covenant to allow Windel and Kermit Lester to develop their land for residential purposes affecting approximately 1.1 acres of land on South Holston Reservoir (a portion of Tract Nos. SH-584F and SH-585F) in Washington County, Virginia.

E3. Grant of a permanent easement, without charge, except for payment of TVA's administrative costs, to the Fort Loudoun Electric Cooperative, for an electrical transmission line and substation affecting approximately 3.3 acres of land on Tellico Reservoir in Monroe County, Tennessee (Tract No. XTTELR-40SS).

E4. Modification of a restrictive covenant, at the request of the Tennessee Wildlife Resources Agency, without charge, except for payment of TVA's administrative costs, affecting approximately 0.30 acre of former TVA land on Fort Patrick Henry Reservoir (portion of Tract No. XTFHR-2) in Sullivan County, Tennessee.

E5. Grant of a 30-year term public recreation easement, with a conditional option for renewals, without charge, except for payment of TVA's administrative costs, to the city of Loudon, Tennessee, affecting approximately 11 acres of land on Watts Bar Reservoir in Loudon County, Tennessee (Tract No. XTWBR-143RE).

E6. Grant of a 30-year term public recreation easement, with a conditional option for renewals, without charge, except for payment of TVA's administrative costs, to the town of Murphy, North Carolina, affecting approximately 22.5 acres of land on Hiwassee Reservoir in Cherokee County, North Carolina (Tract No. XTFBR-30RE).

E7. Grant of a permanent easement to the State of Tennessee Department of Transportation for highway and drainage system improvement purposes, without charge, except for payment of TVA's administrative costs, affecting approximately 1.2 acres of TVA land on Chickamauga Reservoir in Hamilton County, Tennessee (Tract No. XTCR-200H).

E8. Grant of permanent and temporary construction easements, without charge, except for payment of TVA's administrative costs, to the State of Tennessee Department of Transportation for highway and bridge improvement purposes affecting approximately 2.2 acres of land on the Saltillo Generation Plant site in Hardin County, Tennessee (Tract No. XSAGP-1H).

F—Other

F1. Approval to file condemnation cases to acquire transmission line easements and rights-of-way affecting Tract Nos. (CPGSSC-7 and CPGSSC-9, Center-Point Swamp Creek, Whitfield County, Georgia; and Tract No. MNHS-2, Madison-North Huntsville Transmission Line, Madison County, Alabama.

Information Items

1. Restatement and documentation of delegation of approval authorities to the President and Chief Operating Officer, or that officer's designated representative, for power purchase or sale agreements of up to two years in duration; for the purchase or resale of transmission service associated with such purchases or sales of power; and enabling, master, or service agreements associated with the aforementioned types of transactions.

2. Approval of a deed modification affecting approximately 37.6 acres of former TVA land on Guntersville Reservoir in Marshall County, Alabama (Tract No. XGR-13).

3. Approval of the filing of condemnation cases to acquire transmission line easements and rights-of-way affecting Tract No. BWAC-58, Pleasant View-Ashland City Loop Into Ashland City; Tract Nos. CLWC-9 and CLWC-11, Maryland-Crossville Tap to West Crossville; Tract Nos. HCVB-36, HCVB-62A, and HCVB-63, Hanceville-Bremen; and Tract No. RSCP-133, Rock Springs-Center Point; and Tract No. SEM-34, Sturgis-Eupora Tap to Maben Transmission Line.

4. Approval of the filing of condemnation cases to acquire transmission line easements, rights-of-way, and right to enter effecting Tract No. CHMDMW-33, Cordova-Holly Springs Tap to Miller Substation Tap to DeSoto Road Substation Tap to Mineral Wells; Tract No. CPGSSC-12, Center Point-Swamp Creek; Tract Nos. 2PMNS-1000TE, 2PMNS-1001TE, 2PMNS-1002TE, Pickwick-Memphis Second Circuit Tap to North Selmer; and Tract No. WPSVT-1000TE, Wartrace Primary-Shelbyville Tap to Deason Transmission Line.

5. Approval of amendments to the provisions of the TVA Savings and Deferral Retirement 401(k) Plan.

6. Approval of the 2002 edition of the Transmission Service Guidelines and the rates for transmission service and ancillary services.

7. Approval of an agreement amending TVA's power contract with the Knoxville Utilities Board.

8. Approval of a three-year power purchase contract with Calpine Energy Services, L.P., and delegation of authority to the President and Chief Operating Officer, or a designated representative, to negotiate and execute a written definitive agreement for the transaction.

9. Concurrence in the issuance of up to $1 billion in TVA Power Bonds.

For more information: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: May 9, 2002.
Maureen H. Dunn,
General Counsel and Secretary.

[FR Doc. 02-12170 Filed 5-10-02; 2:58 pm]

BILLING CODE 8120-08-M